ENVIRONMENTAL PROTECTION AGENCY

[FRL-9491-1]

Clean Water Act Section 303(d): Availability of 28 Total Maximum Daily Loads (TMDLs) in Louisiana

AGENCY: Environmental Protection Agency (EPA).

ACTION: Notice of availability.

SUMMARY: This notice announces the availability for comment on the administrative record files and the calculations of 28 TMDLs prepared by EPA Region 6. This notice covers waters in the State of Louisiana's Lake Pontchartrain Basin that were identified as impaired on the State's Section 303(d) list. These TMDLs were completed in response to a court order in the lawsuit styled Sierra Club, et al. v. Clifford, et al., No. 96-0527, (E.D. La.).

DATES: Comments must be submitted in writing to EPA on or before December 29, 2011.

ADDRESSES: Comments on the 28 TMDLs should be sent to Diane Smith, Environmental Protection Specialist, Water Quality Protection Division, U.S. Environmental Protection Agency Region 6, 1445 Ross Ave., Dallas, TX 75202-2733 or email: smith.diane@epa.gov. For further information, contact Diane Smith at (214) 665-2145 or fax (214) 665-7373. The administrative record files for the 28 TMDLs are available for public inspection at this address as well. Documents from the administrative record files may be viewed at http://www.epa.gov/earth1r6/6wq/npdes/tmdl/index.htm, or obtained by calling or writing Ms. Smith at the above address. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that EPA failed to establish Louisiana TMDLs in a timely manner. EPA proposes these 28 TMDLs pursuant to a consent decree entered in this lawsuit.

EPA Seeks Comment on 28 TMDLs

By this notice EPA is seeking comment on the following 28 TMDLs for waters located within Louisiana:

Subsegment | Waterbody name | Pollutant
040102 | Comite River—Wilson-Clinton Hwy to entrance of White Bayou (East Baton Rouge Parish) (Scenic) | Fecal Coliform.
040103 | Comite River—Entrance of White Bayou to Amite River | Fecal Coliform.
040201 | Bayou Manchac—Headwaters to Amite River | Fecal Coliform.
040302 | Amite River—LA Hwy 37 to Amite River Diversion Canal | Fecal Coliform.
040304 | Grays Creek—Headwaters to Amite River | Fecal Coliform.
040305 | Colyell Creek System (includes Colyell Bay) | Fecal Coliform.
040503 | Natalbany River—Headwaters to Tickfaw River | Fecal Coliform.
040504 | Yellow Water River—Origin to Ponchatoula Creek | Fecal Coliform.
040505 | Ponchatoula Creek and Ponchatoula River | Fecal Coliform.
040603 | Selsers Creek—Origin to South Slough | Fecal Coliform.
040703 | Big Creek and Tributaries—Headwaters to confluence with Tangipahoia River | Fecal Coliform.
040909 | W-14 Main Diversion Canal—From its origin in the north end of the City of Slidell to its junction with Salt Bayou | Fecal Coliform.
040910 | Salt Bayou—Headwaters to Lake Pontchartrain (Estuarine) | Fecal Coliform.
041302 | Lake Pontchartrain Drainage Canals | Fecal Coliform.
041401 | New Orleans East Leveed Waterbodies (Estuarine) | Fecal Coliform.
040501 | Tickfaw River—From MS State Line to LA Hwy 42 (Scenic) | TDS.
040504 | Yellow Water River—Origin to Ponchatoula Creek | TDS.
040301 | Amite River—MS State Line to LA Hwy 37 (Scenic) | TSS.
040401 | Blind River—From Amite River Diversion Canal to mouth at Lake Maurepas (Scenic) | TSS.
040903 | Bayou Cane—Headwaters to U.S. Hwy 190 (Scenic) | TSS.
040303 | Amite River—Amite River Diversion Canal to Lake Maurepas | Mercury.
040401 | Blind River—From Amite River Diversion Canal to mouth at Lake Maurepas (Scenic) | Mercury.
040403 | Blind River—Source to confluence with Amite River Diversion Canal (Scenic) | Mercury.
040501 | Tickfaw River—From MS State Line to LA Hwy 42 (Scenic) | Mercury
040701 | Tangipahoa River—MS State Line to Interstate Hwy 1-12 (Scenic) | Mercury.
040801 | Tchefuncte River and Tributaries—Headwaters to confluence with Bogue Falaya River (Scenic) | Mercury.
040905 | Bayou Liberty—Headwaters to LA Hwy 433 | Mercury.
040906 | Bayou Liberty—LA Hwy 433 to confluence with Bayou Bonfouca (Estuarine) | Mercury.

EPA requests the public provide to EPA any water quality related data and information that may be relevant to the calculations for the 28 TMDLs. EPA will review all data and information submitted during the public comment period and will revise the TMDLs where appropriate. EPA will then forward the TMDLs to the Louisiana Department of Environmental Quality (LDEQ). The LDEQ will incorporate the TMDLs into its current water quality management plan.

Dated: November 3, 2011.
Troy Hill,
Acting Director, Water Quality Protection Division, EPA Region 6.

[FR Doc. 2011-29302 Filed 11-10-11; 8:45 am]

BILLING CODE 6560-50-P